DEPARTMENT OF JUSTICE

Federal Bureau of Prisons

Notice of Cancellation of Environmental Impact Statement Process Criminal Alien Requirement Phase III—Arizona and California

One June 13, 2000, the U.S. Department of Justice, Federal Bureau of Prisons (Bureau) issued a notice in the Commerce Business Daily stating that the Bureau would be soliciting for Contractor-Owned and Contractor-Operated correctional facilities to house up to 4,500 low security, adult male, non-U.S. citizen criminal aliens within the States of California and/or Arizona. The solicitation was subsequently issued on November 13, 2000 and proposals were submitted by prospective contractors to the Bureau by January 12, 2001. At that time, sites were offered to the Bureau for consideration in: Eloy, Arizona; Florence, Arizona; Kingman, Arizona; Safford, Arizona; San Luis, Arizona; Wilcox, Arizona; Arvin, California; Barstow, California; Orange Cove, California; El Centro, California; and Wasco, California. In support of this undertaking, and in compliance with the National Environmental Policy Act, the Bureau initiated preparation of a Draft Environmental Impact Statement (EIS). Draft EIS preparation began on September 19, 2000 with publication in the Federal Register of a Notice of Intent to prepare a Draft EIS followed by public scoping meetings held in Arizona and California during October 2000. Since that time, the Bureau has been preparing the Draft EIS which would serve to study the potential environmental impacts associated with the proposed action at each of the alternative locations.

On March 15, 2002, the Bureau issued Amendment No. 6 to RFP No. PCC-0007 cancelling the overall solicitation. Cancellation of the solicitation was deemed appropriate because the Bureau no longer has a need for the service. Since January 2001 when proposals were submitted to the Bureau, the Bureau's requirements changed. New population projections indicate a reduced rate of growth of the federal inmate population. Therefore, the Bureau has determined that it is in the best interest of the Federal Government not to proceed with Solicitation No. PCC-0007 or to complete preparation of the Draft EIS. This decision is consistent with the Bureau's strategy of utilizing private corrections contractors to allow flexibility in managing its bedspace capacity needs in a reasonable and cost-effective manner. Questions concerning cancellation of the Draft EIS process should be directed to: David J. Dorworth, Chief, Site Selection & Environmental Review Branch, Federal Bureau of Prisons, 320 First Street, NW., Washington, DC 20534, Tel: 202-514-6470/Fax: 202-616-6024.

Thank you for your interest.

David J. Dorworth,
Chief, Site Selection and Environmental Review Branch.

[FR Doc. 02-11713 Filed 5-9-02; 8:45 am]

BILLING CODE 4410-05-M